Title 3—

The President

Proclamation 9261 of April 30, 2015

Jewish American Heritage Month, 2015

By the President of the United States of America

A Proclamation

From our Nation's earliest days, Jewish Americans have been a critical part of our story. In the face of unspeakable discrimination and adversity, they have fought tirelessly to realize their piece of the American dream and the promise of our founding, holding tight to the belief that a better day lies ahead. Their relentless spirit and remarkable achievements have enriched our country, stirred our conscience, and challenged us to extend the miracles of freedom and security. This month, we honor the vast contributions Jewish Americans have made to our world, and we recommit to standing up for the traditions we believe in and the values we share.

As we celebrate the rich heritage of the Jewish American community, it is impossible to separate their accomplishments from the struggles of Jewish people around the world. American Jews have worked to strengthen the promise of religious freedom because their ancestors were tested from the moment they came together and professed their faith. Today, they continue to teach us empathy and compassion, inspired by the lessons of their parents and grandparents who knew how it felt to be a stranger, and to stand up for a more perfect Union for all—relentlessly pursuing tikkun olam—because they have always understood that we must recognize ourselves in the struggles of our fellow man.

This year, Jewish American Heritage Month begins as the world commemorates the 70th anniversary of the liberation of Dachau by American soldiers, and we are once again reminded that the vibrant culture of the Jewish people has not always been embraced. As tragic events show us all too often, Jewish communities continue to confront hostility and bigotry, including in America. Our Nation shares an obligation to condemn and combat anti-Semitism and hatred wherever it exists, and we remain committed to standing against the ugly tide of anti-Semitism in all its forms, including in the denial or trivialization of the Holocaust.

In celebrating the contributions of the Jewish people to the progress of our country, we also reaffirm America's unwavering commitment to the security of the State of Israel and the close bonds between our two nations and our peoples.

For centuries, Jews have reached for the blessings of freedom and opportunity in the United States. Today—as pillars of their families and leaders in their communities—Jewish Americans represent a link in an unbroken chain of perseverance. During Jewish American Heritage Month, we celebrate the hard-fought progress won through struggle and sacrifice, and we rededicate ourselves to building a world where diversity is cherished and faith is protected.

NOW, THEREFORE, I, BARACK OBAMA, President of the United States of America, by virtue of the authority vested in me by the Constitution and the laws of the United States, do hereby proclaim May 2015 as Jewish American Heritage Month. I call upon all Americans to visit www.JewishHeritageMonth.gov to learn more about the heritage and contributions of Jewish Americans and to observe this month with appropriate programs, activities, and ceremonies.

IN WITNESS WHEREOF, I have hereunto set my hand this thirtieth day of April, in the year two thousand fifteen, and of the Independence of the United States of America the two hundred and thirty-ninth.

[FR Doc. 2015-10630

Filed 5-4-15; 8:45 am]

Billing code 3295-F5